DEPARTMENT OF COMMERCE

International Trade Administration

[A-570-040]

Truck and Bus Tires From the People's Republic of China: Rescission of Antidumping Duty Administrative Review; 2019-2020

AGENCY: Enforcement and Compliance, International Trade Administration, Department of Commerce.

SUMMARY: The Department of Commerce (Commerce) is rescinding the administrative review of the antidumping duty order on truck and bus tires from the People's Republic of China (China) for the period February 15, 2019 through January 31, 2020, based on the timely withdrawal of the requests for review.

DATES: Applicable July 1, 2020.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On February 3, 2020, Commerce published a notice of opportunity to request an administrative review of the antidumping duty order on truck and bus tires from China for the period of review (POR) February 15, 2019 through January 31, 2020.¹ In February 2020, various producers and exporters timely requested an administrative review of the antidumping duty order with respect to truck and bus tires from China.² On April 8, 2020, in accordance with section 751(a) of the Tariff Act of 1930, as amended (the Act) and 19 CFR 351.221(c)(1)(i), we initiated an administrative review of the order on truck and bus tires from China with respect to the 22 respondents listed in the Initiation Notice.³ During April through June 2020, the respondents timely withdrew their requests for an administrative review.⁴ Commerce received no other requests for an administrative review of the antidumping duty order.

¹ See Antidumping or Countervailing Duty Order, Finding, or Suspended Investigation; Opportunity to Request Administrative Review, 85 FR 5938 (February 3, 2020).

² See Triangle Tyre Co., Ltd.'s (Triangle Tyre) Letter, “Re: Truck and Bus Tires from the People's Republic of China: Request for Administrative Review,” dated March 2, 2020; see also Shanghai Huayi Group Corporation Limited's (Huayi Group) Letter, “CMA's and Shanghai Huayi's Request for AD Administrative Review Truck and Bus Tires from China,” dated February 28, 2020; Guangrao Kaichi Trading Co., Ltd.'s (Guangrao Kaichi Trading) Letter, “Truck and Bus Tires from the People's Republic of China—Request for Review,” dated February 26, 2020; Shandong Huasheng Rubber Co., Ltd.'s (Shandong Huasheng) Letter, “Truck and Bus Tires from the People's Republic of China—Request for Review,” dated February 26, 2020; Giti Tire Global Trading Pte. Ltd.'s (Giti Tire) Letter, “Truck and Bus Tires from the People's Republic of China Request for Administrative Review,” dated February 28, 2020; Sailun Group Co., Ltd., Sailun (Shenyang) Tire Co., Ltd., Sailun Group (Hong Kong) Co., Limited (previously known as Sailun Jinyu Group (Hong Kong) Co., Limited) (collectively, Sailun Group), Tongli Tyre Co., Ltd.'s (Tongli Tyre) Letter, “Request for Administrative Review of the Antidumping Duty Order on Truck and Bus Tires from the People's Republic of China,” dated March 2, 2020; and Jiangsu General Science Technology Co., Ltd., Maxon Int'l Co., Limited, Megalith Industrial Group Co., Limited, Qingdao Keter International Co., Limited, Qingdao Powerich Tyre Co., Ltd., Qingdao Shinego Tire Tech Co., Limited (also known as Qingdao Shinego Tyre Tech Co., Ltd.), Qingdao Sunfulcess Tyre Co., Ltd., Shandong Hugerubber Co., Ltd., Shandong Yongsheng Rubber Group Co., Ltd., Shengtai Tyre Co., Ltd., Weifang Shunfuchang Rubber And Plastic Products Co., Ltd.'s (collectively, Gaopeng Respondents) Letter, “Truck and Bus Tires from the People's Republic of China—Request for Administrative Review,” dated February 28, 2020.

³ See Initiation of Antidumping and Countervailing Duty Administrative Reviews, 85 FR 19730 (April 8, 2020) (Initiation Notice).

⁴ See Huayi Group's Letter, “CMA and Shanghai Huayi's Withdrawal of Request for Administrative Review Truck and Bus Tires from China,” dated April 9, 2020; see also Sailun Group's Letter, “Sailun Withdrawal of Review Request in POR 1 of the Antidumping Duty Review of Truck and Bus Tires from the People's Republic of China (A-570-040),” dated April 14, 2020; Guangrao Kaichi Trading's Letter, “Truck and Bus Tires from the People's Republic of China—Withdrawal of Request for Antidumping Administrative Review,” dated April 30, 2020; Shandong Huasheng's Letter, “Truck and Bus Tires from the People's Republic of China—Withdrawal of Request for Antidumping Administrative Review,” dated April 30, 2020; Triangle Tyre's Letter, “Truck and Bus Tires from the People's Republic of China-Withdrawal of Triangle Tyre Request for the First Administrative Review,” dated April 30, 2020; Gaopeng Respondents's Letter, “Truck and Bus Tires from the People's Republic of China—Withdrawal of Request for Administrative Review,” dated May 6, 2020; Tongli Tyre's Letter, “Tongli Withdrawal of Review Request in POR 1 of the Antidumping Duty Review of Truck and Bus Tires from the People's Republic of China (A-570-040),” dated May 14, 2020; Giti Tire's Letter, “Truck and Bus Tires from the People's Republic of China: Withdrawal of Request for Administrative Review,” dated May 28, 2020; and see Giti Tire's Letter, “Re: Truck and Bus Tires from the People's Republic of China: Withdrawal of Request for Administrative Review—Clarification,” dated June 22, 2020.

Rescission of Review

Pursuant to 19 CFR 351.213(d)(1), Commerce will rescind an administrative review “in whole or in part, if a party that requested a review withdraws the request within 90 days of the date of publication of notice of initiation of the requested review.” All respondents withdrew their requests for review within 90-days of the publication date of the Initiation Notice. Because we received no other requests for review of the respondents, and no other requests for the review of the order on truck and bus tires from China with respect to other companies subject to the order, we are rescinding the administrative review of the order in its entirety, in accordance with 19 CFR 351.213(d)(1).

Assessment

Commerce will instruct U.S. Customs and Border Protection (CBP) to assess antidumping duties on all appropriate entries of truck and bus tires from China during the POR at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: June 25, 2020.
James Maeder,
Deputy Assistant Secretary for Antidumping and Countervailing Duty Operations.

[FR Doc. 2020-14193 Filed 6-30-20; 8:45 am]

BILLING CODE 3510-DS-P